DEPARTMENT OF HEALTH AND HUMAN SERVICES

National Institutes of Health

National Institute of Environmental Health Sciences Amended; Notice of Meeting.

Notice is hereby given of a change in the meeting of the National Advisory Environmental Health Sciences Council, which was published in the Federal Register on February 15, 2019, 84 FR, 4502.

This notice is being amended due to change of meeting location. The meeting will be held at Durham Convention Center (Junior Ballroom AB), 301 Morgan Street, Durham, NC 27701. The meeting is partially Closed to the public.

Dated: August 2, 2019.
Sylvia L. Neal,
Program Analyst, Office of Federal Advisory Committee Policy.

[FR Doc. 2019-16956 Filed 8-7-19; 8:45 am]

BILLING CODE 4140-01-P